DEPARTMENT OF HEALTH AND HUMAN SERVICES

Centers for Medicare & Medicaid Services

[CMS-2200-N]

Medicare Program; Request for Nominations for the State Pharmaceutical Assistance Transition Commission

AGENCY: Centers for Medicare & Medicaid Services (CMS), HHS.

ACTION: Notice.

SUMMARY: This notice requests nominations for individuals to serve on the State Pharmaceutical Assistance Transition Commission (the Commission). The Commission will develop a proposal for addressing the unique transitional issues facing State pharmaceutical assistance programs and program participants due to the implementation of the voluntary prescription drug benefit program under part D of title XVIII of the Social Security Act. This Commission will be established in accordance with the Federal Advisory Committee Act, 5 U.S.C. appendix 2. We are preparing the charter and will ask the Secretary to establish this Commission.

EFFECTIVE DATE: Nominations will be considered if we receive them at the appropriate address, provided below, no later than 5 p.m. on March 12, 2004, or until the Secretary or designee selects all members of the Commission.

ADDRESSES: Mail or deliver nominations to the following address: Marge Watchhorn, Centers for Medicare & Medicaid Services, 7500 Security Boulevard, Mail stop S2-01-16, Baltimore, MD 21244-1850.

FOR FURTHER INFORMATION CONTACT: Marge Watchhorn, (410) 786-4361. Press inquiries are handled through the CMS Press Office at (202) 690-6145.

SUPPLEMENTARY INFORMATION:

I. Background

Section 106 of the Medicare Prescription Drug, Improvement, and Modernization Act of 2003 (MMA) (Pub. L. 108-173), enacted on December 8, 2003, grants to the Secretary of the Department of Health and Human Services (the Secretary) the authority to establish a State Pharmaceutical Assistance Transition Commission (the Commission). The Commission's goal is to develop a proposal for addressing the unique transitional issues facing State pharmaceutical assistance programs (SPAPs) and program participants due to the implementation of the voluntary prescription drug benefit program under Part D of title XVIII of the Social Security Act (the Act). An SPAP is a program (other than the Medicaid program) operated by a State (or under contract with a State) that provides financial assistance as of December 8, 2003 to Medicare beneficiaries to purchase prescription drugs. Generally, SPAP participants are low-income Medicare beneficiaries.

II. Composition of the Commission

The Commission must include the following:

1. A representative of each Governor of each State that the Secretary identifies as operating, on a statewide basis, an SPAP that provides for eligibility and benefits that are comparable to, or more generous than, the low-income assistance eligibility and benefits offered under section 1860D-14 of the Act. Nominations under this category must be made by a State Governor or his designee and information must be submitted to demonstrate that the SPAP in the State provides a benefit comparable to, or more generous than, the Medicare benefit under section 1860D-14 of the Act. This determination will be made based on the per capita SPAP expenditures for the most recent full year of program operation. Nominations must include total SPAP expenditures and the number of full-time equivalent SPAP enrollees for the year. The per capita amount computed from these data must equal or exceed the actuarial value of the benefit under section 1860D-14 of the Act estimated by CMS. (Please note that because the CMS actuarial values may not be publicly available, this comparison will be done within CMS.) We will assume that States not responding to this notice do not believe they would meet the criteria for inclusion on the Commission under this paragraph.

2. Representatives from other States that the Secretary identifies have in operation other State pharmaceutical assistance programs, as appointed by the Secretary.

3. Representatives of organizations that have an inherent interest in program participants or the program itself, that the Secretary appoints but not to exceed the number of representatives in the two preceding paragraphs.

4. Representatives of Medicare Advantage organizations, pharmaceutical benefits managers, and other private health insurance plans, that the Secretary appoints.

5. The Secretary (or the Secretary's designee) and any other members that the Secretary may specify.

The Secretary will designate a member to serve as Chair of the Commission and the Commission will meet at the call of the Chair.

III. Development of the Proposal

The Commission must develop the proposal in a manner consistent with the following principles:

• Protection of the interests of program participants in a manner that is the least disruptive to these participants and that includes a single point of contact for enrollment and processing of benefits.

• Protection of the financial and flexibility interests of States so that States are not financially worse off as a result of the enactment of Title I of the MMA, which establishes the voluntary prescription drug benefit program under part D.

• Principles of Medicare modernization under the MMA.

IV. Report to Congress

By January 1, 2005, the Commission must submit to the President and the Congress a report that contains a detailed proposal (including specific legislative or administrative recommendations, if any) and other recommendations as the Commission deems appropriate.

V. Other Information

The Secretary may provide the Commission with administrative support services necessary for the Commission to carry out its responsibilities under section 106 of the MMA.

The Commission terminates 30 days after the date of submission of the report to Congress, but no later than January 31, 2005.

VI. Submission of Nominations

This notice is an invitation to interested organizations or individuals to submit their nominations for membership on the Commission. Persons submitting nominations must indicate the number of the paragraph in section II under which the nomination is being made. The Secretary, or his designee, will appoint members to the Commission from among those candidates and from those organizations determined to have the expertise required to meet specific agency needs, and in a manner to ensure an appropriate balance of membership.

Each nomination must state that the nominee has expressed a willingness to serve as a Commission member and must be accompanied by a short resume or description of the nominee's experience. In order to permit an evaluation of possible sources of conflict of interest, potential candidates will be asked to provide detailed information concerning such matters as financial holdings, consultancies, and research grants or contracts. Self-nominations also will be accepted.

Authority: Section 106 of the Medicare Prescription Drug, Improvement, and Modernization Act of 2003.

(Catalog of Federal Domestic Assistance Program No. 93.778, Medical Assistance Program)

Dated: February 23, 2004.
Dennis G. Smith,
Acting Administrator, Centers for Medicare & Medicaid Services.

[FR Doc. 04-4441 Filed 2-26-04; 8:45 am]

BILLING CODE 4120-01-P